DEPARTMENT OF LABOR

Employment and Training Administration

[TA-W-72,695]

Parkdale Mills (Formerly Hanesbrands, Inc.) Galax, VA; Notice of Affirmative Determination Regarding Application for Reconsideration

By application dated February 2, 2010, petitioners requested administrative reconsideration of the negative determination regarding workers' eligibility to apply for Trade Adjustment Assistance (TAA) applicable to workers and former workers of the subject firm. The determination was issued on January 11, 2010, and the Department's Notice of determination will be published soon in the Federal Register.

The initial investigation resulted in a negative determination based on the findings that the subject firm did not separate or threaten to separate a significant number or proportion of workers as required by Section 222 of the Trade Act of 1974.

In the request for reconsideration, the petitioners provided additional information regarding the number of workers separated from the subject firm.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 4th day of May, 2010.
Del Min Amy Chen,
Certifying Officer, Division of Trade Adjustment Assistance.

[FR Doc. 2010-12108 Filed 5-19-10; 8:45 am]

BILLING CODE 4510-FN-P